DEPARTMENT OF ENERGY

Federal Energy Regulatory Commission

[Docket No. CP02-74-000]

Reef International, L.L.C.; Notice of Application

February 4, 2002.

Take notice that on January 22, 2002, Reef International, L.L.C., (Reef), 1330 Leopard St., Suite 26, Corpus Christi, Texas 78410, filed an application seeking Section 3 authorization pursuant to the Natural Gas Act (NGA) and a Presidential Permit pursuant to Executive Order No. 10485, as amended by Executive Order No. 12038, to site, construct, operate and maintain facilities at the International Boundary between the United States and Mexico for the exportation of initially 5,000 MMBtu per day of natural gas, and thereafter will average approximately 15,000 MMBtu per day from Eagle Pass, Maverick County, Texas to Coahuila, Mexico, all as more fully set forth in the application on file with the Commission and open to public inspection. This filing may be viewed on the web at http://www.ferc.gov using the “RIMS” link, select “Docket #” and follow the instructions (call (202)208-2222 for assistance).

Reef proposes to construct approximately 5 miles of 12-inch pipeline and appurtenant facilities from an interconnection with the existing intrastate pipeline facilities of Southern Transmission Company in Maverick County, Texas, crossing under the Rio Grande River (the mid-point of which is the International Boundary between the United States and Mexico), to a point just across the river in Coahuila, Mexico. In order to cross the Rio Grande River, Reef proposes to directionally bore under it for a total bore length of approximately 800 feet. The new pipeline will then terminate approximately 1000 feet from the International Boundary in Coahuila, Mexico, at a point of interconnection with the distribution system of Compania National de Gas, S.A. (Conagas). According to Reef, Conagas will construct the metering and regulating facilities, known as the Phenix Station, in Mexico necessary for it to receive the gas from Reef's new pipeline. Reef states that the purpose of the new pipeline is to provide the Piedras Negras region of Coahuila, Mexico, with additional, needed supplies of clean burning natural gas, which will be derived exclusively from production sources within the State of Texas.

Reef seeks both an NGA Section 3 order and a Presidential Permit for the approximately 400 feet of 12-inch pipeline that will begin at the point of commencement of the directional bore on the United States side of the river and extend to the mid-point of the river. The remaining facilities that will lie within the United States will be subject to the jurisdiction of the State of Texas. Reef asserts that since none of the transported supplies will be derived from sources outside of state, the U.S. portion of the pipeline facilities are exempt from Section 7.

Any questions regarding the application should be directed to Michael Ward, Reef International, L.L.C., 1330 Leopard St., Suite 26, Corpus Christi, Texas, 78410, at (361) 241-2244.

There are two ways to become involved in the Commission's review of this project. First, any person wishing to obtain legal status by becoming a party to the proceedings for this project should, on or before February 25, 2002, file with the Federal Energy Regulatory Commission, 888 First Street, NE., Washington, DC 20426, a motion to intervene or a protest in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

The Commission may issue a preliminary determination on non-environmental issues prior to the completion of its review of the environmental aspects of the project. This preliminary determination typically considers such issues as the need for the project and its economic effect on existing customers of the applicant, on other pipelines in the area, and on landowners and communities. For example, the Commission considers the extent to which the applicant may need to exercise eminent domain to obtain rights-of-way for the proposed project and balances that against the non-environmental benefits to be provided by the project. Therefore, if a person has comments on community and landowner impacts from this proposal, it is important either to file comments or to intervene as early in the process as possible.

Interventions, comments, and protests may be filed electronically via the Internet in lieu of paper. See, 18 CFR 385.2001(a)(1)(iii) and the instructions on the Commission's web site under the “e-Filing” link.

If the Commission decides to set the application for a formal hearing before an Administrative Law Judge, the Commission will issue another notice describing that process. At the end of the Commission's review process, a final Commission order approving or denying a certificate will be issued.

Magalie R. Salas,
Secretary.

[FR Doc. 02-3204 Filed 2-8-02; 8:45 am]

BILLING CODE 6717-01-P